DEPARTMENT OF DEFENSE

Office of the Secretary

[Docket ID: DoD-2011-OS-0139]

Proposed Collection; Comment Request

AGENCY: Office of the Under Secretary of Defense for Personnel and Readiness, DoD.

ACTION: Notice.

In compliance with Section 3506(c)(2)(A) of the Paperwork Reduction Act of 1995, the Office of the Under Secretary of Defense for Personnel and Readiness announces a public information collection and seeks public comment on the provisions thereof related to immediately begin, prospectively, adding a deliverable reporting requirement to contract statements of work in order to fully comply with sections 235 and 2330a of title 10, United States Code. There is precedent within the Department based on the experience of the Department of the Army for the past five years to support statements made in the attachment. As such, Department of the Army efforts constitute actions to date to consult with interested agencies, affected private sector firms, and members of the public, to ensure minimal burden for the collection of this information. Comments are invited on: (a) The accuracy of the agency's estimate of the burden of the proposed information collection; (b) ways to enhance the quality, utility, and clarity of the information to be collected; and (c) ways to minimize the burden of the information collection on respondents, including through the use of automated collection techniques or other forms of information technology.

DATES: Consideration will be given to all comments received by March 23, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense for Personnel and Readiness, ATTN: Amy Parker, 4000 Defense Pentagon, Washington, DC 20301 or call OUSD(P&R) at (703) 614-5133.

Title; Associated Form; and OMB Number: Department of Defense Inventory of Contracts for Services Compliance; OMB Number 0704-TBD.

Needs and Uses: The collection of information is essential to the DoD mission, without this reporting DoD will be unable to fully comply with the statutory requirements specified below. The Department has received clear guidance from the Armed Services Committees that all DoD organizations fully implement sections 235 and 2330a of title 10, United States Code (U.S.C.).

Affected Public: Business or other for profit; Not-for-profit institutions.

Annual Burden Hours: 4,074.

Number of Respondents: 48,884.

Responses per Respondent: 1.

Average Burden per Response: 5 minutes.

Frequency: Annually.

SUPPLEMENTARY INFORMATION:

Summary of Information Collection

The DoD will use a streamlined, user-friendly, and secure Web site to obtain contractor work force information, based on the Army system located at https://cmra.DoD.mil/. This Web site allows contractors the option of entering their data directly into the Web site via short drop-down menus or batch loading data based on formatted spreadsheets.

The information requested, such as the Reporting Period, Contract Number, Task/Delivery Order Number, Customer Name and Address, Contracting Office Name and Address, Federal Supply Class or Service Code, Contractor Name and Address, Value of Contract Instrument, and the Number and Value of Direct Labor Hours will be used to facilitate the accurate identification of the function performed and to facilitate estimate the reliability of the data.

The Direct Labor Hours are requested for use in calculating contractor manpower equivalents. This information is reported directly from the contractor because this is the most credible data source.

Each contractor may determine their cost for submitting information on the Contractor Manpower Reporting System Web site. Given the streamlined menu of data requested and the user-friendly Web site for submitting the data, the actual costs for reporting this information to date have been minimal. The cost elements can include the man-hours spent entering the data, man-hours spent configuring current systems, and the man-hours spent collecting the data. The Army has found that during the first five years of reporting, most contractors are choosing to absorb the cost of reporting into overhead rather than separately identifying the direct cost.

The contractor name, address, and point of contact with an email address are requested to facilitate reconciliation of the data and clarification of any ambiguous entries with the contractor. The Army has instituted several program enhancements that will enable DoD to further minimize the reporting burden for all parties. For instance, contract funding information can be pre-populated from defense accounting system data and edited, if necessary with a series of easy-to-use drop down menus of standard accounting data elements. In the previous data collection effort, contractors were expected to know Department funding source data. Another enhancement to the data collection effort is the drop down menus for the identification of the DoD organizational customer supported. In this regard, rather than have the contractor go into the system and presume whom they are proving support services to, the system is now designed with drop down menus that start from the top level. The DoD system will be pre-populated with information on the “organization supported” to minimize reporting confusion.

Dated: January 23, 2012.
Patricia L. Toppings,
OSD Federal Register Liaison Officer, Department of Defense.

[FR Doc. 2012-2727 Filed 2-6-12; 8:45 am]

BILLING CODE 5001-06-P